DEPARTMENT OF ENERGY

Federal Energy Regulatory Commission

[Project No. 14514-000]

Community of Elfin Cove, DBA Elfin Cove Utility Commission; Notice of Preliminary Permit Application Accepted for Filing and Soliciting Comments, Motions To Intervene, and Competing Applications

On April 24, 2013, the Community of Elfin Cove, DBA Elfin Cove Utility Commission County (Elfin Cove) filed an application for a preliminary permit, pursuant to section 4(f) of the Federal Power Act (FPA), proposing to study the feasibility of the Crooked Creek and Jim's Lake Hydroelectric Project (project) to be located on Crooked Creek and Jim's Lake, 70 miles east of Juneau, in the unincorporated Sitka Recording District, Alaska. The sole purpose of a preliminary permit, if issued, is to grant the permit holder priority to file a license application during the permit term. A preliminary permit does not authorize the permit holder to perform any land-disturbing activities or otherwise enter upon lands or waters owned by others without the owners' express permission.

The proposed project would consist of two developments, the Upper System and the Lower System.

Upper System

(1) A 40-foot-long, 4-foot-wide, 4-foot-wide diversion structure to divert up to five cubic feet per second (cfs) from Crooked Creek; (2) a 1,450-foot-long, 1-foot-diameter penstock extending between the diversion structure and the powerhouse; (3) a powerhouse containing a 35-kilowatt (kW) power recovery turbine; (4) a 25-foot-long, 8-foot-wide, 3-foot-deep cobble-lined tailrace discharging flows into Jim's Lake; (5) an underground 7,300-foot-long, 7.2/12.47-kilovolt (kV) transmission line extending from both of the project powerhouses to Elfin Cove's existing 7.2/12.47-kV transmission line; and (6) appurtenant facilities.

Lower System

(1) A siphon intake located in Jim's Lake to divert seven cfs from Jim's Lake; (2) a 1,800-foot-long, 1.2-foot-diameter penstock extending between the siphon intake and the powerhouse; (3) a powerhouse containing a 125-kW Pelton or impulse turbine; (4) a 150-foot-long, 8-foot-wide, 3-foot-deep cobble-lined tailrace discharging flows into Port Althorp; and (5) appurtenant facilities.

The estimated annual generation of the project would be 672.7 gigawatt-hours. The project would be partially located on 60 acres of federal lands managed by the U.S. Forest Service in the Tongass National Forest.

Applicant Contact: Mr. Joel Groves, Polarconsult Alaska, Inc., 1503 W. 33rd Avenue, #310, Anchorage, Alaska 99503; phone: (907) 258-2420 ext. 204.

FERC Contact: Kim Nguyen; phone: (202) 502-6105.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and five copies to: Kimberly D. Bose, Secretary, Federal Energy Regulatory Commission, 888 First Street NE., Washington, DC 20426.

More information about this project, including a copy of the application, can be viewed or printed on the “eLibrary” link of Commission's Web site at http://www.ferc.gov/docs-filing/elibrary.asp. Enter the docket number (P-14514) in the docket number field to access the document. For assistance, contact FERC Online Support.

Dated: April 30, 2013.
Kimberly D. Bose,
Secretary.

[FR Doc. 2013-10637 Filed 5-3-13; 8:45 am]

BILLING CODE 6717-01-P